DEPARTMENT OF LABOR

Employment and Training Administration

[NAFTA-05314]

Emerson Electric Co. Daniel Measurement and Control, Inc. Statesboro, Georgia; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on September 11, 2001, in response to a petition filed by a company official on behalf of workers at Emerson Electric Company, Daniel Measurement and Control, Inc., Statesboro, Georgia.

The petitioner has requested that the petition be withdrawn. Consequently, further investigation in this case would serve no purpose, and the investigation has been terminated.

Signed at Washington, DC, this 25th day of October, 2001.
Linda G. Poole,
Certifying Officer, Division of Trade Adjustment Assistance.

[FR Doc. 01-27799 Filed 11-5-01; 8:45 am]

BILLING CODE 4510-30-M